DEPARTMENT OF TRANSPORTATION

Research and Special Programs Administration

[Docket No. RSPA-2002-11270, Notice No. 02-01]

Safety Advisory: Unauthorized Marking of Compressed Gas Cylinders

AGENCY: Research and Special Programs Administration (RSPA), DOT.

ACTION: Safety advisory notice.

SUMMARY: This is to notify the public that RSPA and the Department of Transportation's Office of Inspector General (OIG) are investigating the unauthorized marking of high-pressure compressed gas cylinders by Bev Con International (Bev Con), 6400 and 6420 Highway 51 South, Brighton, Tennessee. Bev Con is also known as or has done business as Bev-con, BCI Inc., BCI Industries and BCI Industries, Inc. All companies are located at the Brighton, Tennessee address listed above. RSPA and the OIG have determined that Bev Con marked and certified an undetermined number of cylinders with invalid Retester Identification Numbers (RINs), apparently without conducting hydrostatic retests of the cylinders in accordance with the Hazardous Materials Regulations (HMR). The cylinders at issue are mostly used in the beverage service industry.

On December 13, 2001, a Federal Grand Jury in Tennessee handed down a 31-count indictment against Bev Con and two of its principals. The indictment includes charges for the unauthorized cylinder marking described in this safety advisory.

A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders that have not been retested in accordance with the HMR may not be charged or filled with compressed gas or other hazardous material.

FOR FURTHER INFORMATION CONTACT: Cheryl K. Johnson, Senior Inspector, Southern Region, Office of Hazardous Materials Enforcement, Research and Special Programs Administration, U.S. Department of Transportation, 1701 Columbia Avenue, Suite 520, College Park, GA 30337. Telephone: (404) 305-6120, Fax: (404) 305-6125.

SUPPLEMENTARY INFORMATION: Through an investigation of Bev Con, RSPA and the OIG have determined that Bev Con marked and certified an undetermined number of cylinders with two expired RINs. In addition, it does not appear that Bev Con conducted proper hydrostatic testing of the cylinders, as required by the HMR. The HMR requires that a cylinder retester obtain a RIN from RSPA. Bev Con has never been issued a RIN by RSPA, and any cylinders marked by Bev Con as having been tested in accordance with the HMR are unauthorized for use in hazardous materials service until properly retested by a DOT-authorized retester.

The cylinders in question are stamped with one of the following two RINs: C173 or C137. The markings appear in the following pattern:

(1)

C1
M Y
37

(2)

C1
M Y
73

M is the month of retest (e.g., 10), and Y is the year of the retest (e.g., 01).

RIN C173 was issued to Cee Kay Supply, 4241 Folsum Avenue, St. Louis, Missouri, on October 28, 1987. Cee Kay Supply was granted renewal of that RIN on August 27, 1992. Authorization for RIN C173 expired on August 27, 1997, and any use of that RIN to mark DOT specification or exemption cylinders after that date is unauthorized.

RIN C137 was issued to Koch Carbonic Corporation, 433 Raymond Boulevard, Newark, New Jersey, on July 8, 1987. Koch Carbonic Corporation last renewed the RIN on October 8, 1992. Authorization for RIN C137 expired on October 8, 1997, and any use of that RIN to mark DOT specification or exemption cylinders after that date is unauthorized.

Anyone who has a cylinder that has been serviced by or purchased from Bev Con and that is marked with RIN C173 and stamped with a retest date after August 1997, or that is marked with RIN C137 and stamped with a retest date after October 1997, should consider the cylinder unsafe and not fill it with a hazardous material unless the cylinder is first properly retested by a DOT-authorized retest facility. Cylinders described in this safety advisory that are filled with an atmospheric gas should be vented or otherwise safely discharged and then taken to a DOT-authorized cylinder retest facility for proper retest to determine compliance with the HMR and their suitability for continuing service. Cylinders described in this safety advisory that are filled with a material other than an atmospheric gas should not be vented, but instead should be safely discharged, and then taken to a DOT-authorized cylinder retest facility for proper retest to determine compliance with the HMR and their suitability for continuing service. Under no circumstance should a cylinder described in this safety advisory be filled, refilled or used for its intended purpose until it is reinspected and retested by a DOT-authorized retest facility.

It is further recommended that persons finding or possessing a cylinder described in this safety advisory or with questions concerning other cylinders sold or serviced by Bev Con contact Ms. Johnson for additional information.

Issued in Washington, DC, on January 22, 2002.
Robert A. McGuire,
Associate Administrator for Hazardous Materials Safety.

[FR Doc. 02-1863 Filed 1-24-02; 8:45 am]

BILLING CODE 4910-60-P